DEPARTMENT OF TRANSPORTATION

Federal Aviation Administration

14 CFR Part 71

[Docket No. FAA-2003-14644; Airspace Docket No. 03-AGL-01]

Modification of Class E Airspace; Kenton OH; Revocation of Class E Airspace; Bellefontaine, OH

Correction

In rule document 03-19167 appearing on page 44202 in the issue of Monday, July 28, 2003, make the following correction:

§71.1 [Corrected]

On page 44202, in the third column, in § 71.1, under the heading “AGL OH E5 Kenton, OH [Revised]” in the fifth line “83°23′39″W.,” should read “83°28′39″W.,”.

[FR Doc. C3-19167 Filed 8-19-03; 8:45 am]

BILLING CODE 1505-01-D